DEPARTMENT OF COMMERCE

United States Patent and Trademark Office

Submission for OMB Review; Comment Request; “Requirements for Patent Applications Containing Nucleotide Sequence and/or Amino Acid Sequence Disclosures”

The United States Patent and Trademark Office (USPTO) will submit to the Office of Management and Budget (OMB) for clearance the following proposal for collection of information under the provisions of the Paperwork Reduction Act.

Agency: United States Patent and Trademark Office, Commerce.

Title: Requirements for Patent Applications Containing Nucleotide Sequence and/or Amino Acid Sequence Disclosures.

OMB Control Number: 0651-0024.

Form Number(s):

• PTO/SB/93.

Type of Request: Regular.

Number of Respondents: 28,850.

Estimated Time per Response: The USPTO estimates that it will take approximately 6 minutes (0.10 hours) to 6 hours to complete a single item in this collection. This includes the time to gather the necessary information, create the documents, and submit the completed request to the USPTO.

Burden Hours: 163,955 hours.

Cost Burden: $1,573,140.00.

Needs and Uses: Patent applications that contain nucleotide and/or amino acid sequence disclosures that fall within the definitions of 37 CFR 1.821(a) must include, as a separate part of the application disclosure, a copy of the sequence listing in accordance with the requirements in 37 CFR 1.821-1.825. Applicants may submit sequence listings for both U.S. and international patent applications. The USPTO uses the sequence listings during the examination process to determine the patentability of the associated patent application. The USPTO also uses the sequence listings to support publication of patent applications and issued patents. Sequence listings are searchable after publication.

Frequency: On occasion.

Respondent's Obligation: Required to Obtain or Retain Benefits.

OMB Desk Officer: Nicholas A. Fraser, email: Nicholas_A._Fraser@omb.eop.gov.

Once submitted, the request will be publicly available in electronic format through reginfo.gov. Follow the instructions on the website to view Department of Commerce collections currently under review by OMB.

Further information can be obtained by:

• Email: InformationCollection@uspto.gov. Include “0651-0024 information request” in the subject line of the message.

• Mail: Marcie Lovett, Chief, Records and Information Governance Branch, Office of the Chief Administrative Officer, United States Patent and Trademark Office, P.O. Box 1450, Alexandria, VA 22313-1450.

Written comments and recommendations for the proposed information collection should be sent on or before August 22, 2019 to Nicholas A. Fraser, OMB Desk Officer, via email to Nicholas_A._Fraser@omb.eop.gov, or by fax to 202-395-5167, marked to the attention of Nicholas A. Fraser.

Marcie Lovett,
Chief, Records and Information Governance Branch, Office of the Chief Administrative Officer, United States Patent and Trademark Office.

[FR Doc. 2019-15562 Filed 7-22-19; 8:45 am]

BILLING CODE 3510-16-P